DEPARTMENT OF HOMELAND SECURITY

Federal Emergency Management Agency

44 CFR Part 65

[Docket ID FEMA-2012-0003; Internal Agency Docket No. FEMA-B-1244]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Jefferson | City of Birmingham (11-04-6751P) | December 2, 2011; December 9, 2011; The Birmingham News | The Honorable William Bell, Mayor, City of Birmingham, 710 North 20th Street, Birmingham, AL 35203 | April 9, 2012 | 010116
Jefferson | City of Mountain Brook (11-04-6751P) | December 2, 2011; December 9, 2011; The Birmingham News | The Honorable Lawrence Terry Oden, Mayor, City of Mountain Brook, 3928 Montclair Road, Mountain Brook, AL 35213 | April 9, 2012 | 010128
Jefferson | Unincorporated areas of Jefferson County (11-04-6751P) | December 2, 2011; December 9, 2011; The Birmingham News | The Honorable David Carrington, President, Jefferson County Commission, 716 Richard Arrington, Jr. Boulevard North, Birmingham, AL 35203 | April 9, 2012 | 010217
Arizona:
Coconino | City of Flagstaff (11-09-0801P) | October 27, 2011; November 3, 2011; The Arizona Daily Sun | The Honorable Sara Presler, Mayor, City of Flagstaff, 211 West Aspen Avenue, Flagstaff, AZ 86001 | March 2, 2012 | 040020
Maricopa | City of Peoria (11-09-3985P) | December 8, 2011; December 15, 2011; The Arizona Business Gazette | The Honorable Bob Barrett, Mayor, City of Peoria, 8401 West Monroe Street, Peoria, AZ 85345 | November 29, 2011 | 040050
Colorado:
Arapahoe | City of Centennial (11-08-0818P) | December 8, 2011; December 15, 2011; The Littleton Independent | The Honorable Cathy Noon, Mayor, City of Centennial, 13133 East Arapahoe Road, Centennial, CO 80112 | April 13, 2012 | 080315
Arapahoe | City of Centennial (11-08-1095P) | December 8, 2011; December 15, 2011; The Littleton Independent | The Honorable Cathy Noon, Mayor, City of Centennial, 13133 East Arapahoe Road, Centennial, CO 80112 | April 13, 2012 | 080315
Routt | Town of Hayden (11-08-0603P) | November 6, 2011; November 13, 2011; The Steamboat Pilot & Today | The Honorable Jim Haskins, Mayor, Town of Hayden, 178 West Jefferson Avenue, Hayden, CO 81639 | March 12, 2012 | 080157
Weld | City of Fort Lupton (11-08-0714P) | November 9, 2011; November 16, 2011; The Greeley Tribune | The Honorable Tommy Holton, Mayor, City of Fort Lupton, 130 South McKinley Avenue, Fort Lupton, CO 80621 | March 15, 2012 | 080183
Weld | Unincorporated areas of Weld County (11-08-0714P) | November 9, 2011; November 16, 2011; The Greeley Tribune | The Honorable Douglas Rademacher, Chairman, Weld County Board of Commissioners, 1150 O Street, Greeley, CO 80631 | March 15, 2012 | 080266
Florida:
Lee | Unincorporated areas of Lee County (12-04-0347P) | December 7, 2011; December 14, 2011; The News-Press | The Honorable John Manning, Chairman, Lee County Board of Commissioners, 2120 Main Street, Fort Myers, FL 33901 | November 29, 2011 | 125124
Orange | City of Orlando (11-04-8600P) | December 5, 2011; December 12, 2011; The Orlando Sentinel | The Honorable Buddy Dyer, Mayor, City of Orlando, 400 South Orange Avenue, Orlando, FL 32802 | November 22, 2011 | 120186
New Mexico:
Chaves | City of Roswell (11-06-0142P) | November 17, 2011; November 24, 2011; The Roswell Daily Record | The Honorable Del Jurney, Mayor, City of Roswell, 425 North Richardson Avenue, Roswell, NM 88202 | March 23, 2012 | 350006
Chaves | Unincorporated areas of Chaves County (11-06-0142P) | November 17, 2011; November 24, 2011; The Roswell Daily Record | The Honorable Stanton L. Riggs, Chaves County Manager, 1 Saint Mary's Place, Roswell, NM 88203 | March 23, 2012 | 350125
Santa Fe | Unincorporated areas of Santa Fe County (11-06-0697P) | November 29, 2011; December 6, 2011; The Santa Fe New Mexican | The Honorable Virginia Vigil, Chairman, Santa Fe County Commissioners, 102 Grant Avenue, Santa Fe, NM 87501 | November 23, 2011 | 350069
New York:
Dutchess | Town of Dover (12-02-0166P) | November 23, 2011; November 30, 2011; The Poughkeepsie Journal | The Honorable Ryan Courtien, Supervisor, Town of Dover, 126 East Duncan Hill Road, Dover Plains, NY 12522 | May 3, 2012 | 361335
North Carolina:
Dare | Unincorporated areas of Dare County (11-04-5020P) | September 8, 2011; September 15, 2011; The Coastland Times | The Honorable Warren Judge, Chairman, Dare County Board of Supervisors, 954 Marshall C. Collins Drive, Manteo, NC 27954 | August 30, 2011 | 375348
Orange | Town of Chapel Hill (10-04-6903P) | November 23, 2011; November 30, 2011; The Chapel Hill Herald | The Honorable Mark Kleinschmidt, Mayor, Town of Chapel Hill, 405 Martin Luther King Jr. Boulevard, Chapel Hill, NC 27514 | March 29, 2012 | 370180
Stanly | City of Albemarle (11-04-3287P) | November 3, 2011; November 10, 2011; The Stanly News & Press | The Honorable Elbert L. Whitley, Jr., Mayor, City of Albemarle, 144 North 2nd Street, Albemarle, NC 28001 | March 9, 2012 | 370223
Stanly | Unincorporated areas of Stanly County (11-04-3287P) | November 3, 2011; November 10, 2011; The Stanly News & Press | Mr. Andy Lucas, Stanly County Manager, 1000 North 1st Street, Suite 10, Albemarle, NC 28001 | March 9, 2012 | 370361
Texas:
Denton | City of Denton (11-06-3838P) | November 17, 2011; November 24, 2011; The Denton Record-Chronicle | The Honorable Mark A. Burroughs, Mayor, City of Denton, 215 East McKinney Street, Denton, TX 76201 | November 10, 2011 | 480194
Guadalupe | City of Schertz (11-06-1933P) | November 28, 2011; December 5, 2011; The Daily Commercial Recorder | The Honorable Harold Baldwin, Mayor, City of Schertz, 1400 Schertz Parkway, Schertz, TX 78154 | April 3, 2012 | 480269
Guadalupe | City of Selma (11-06-1933P) | November 28, 2011; December 5, 2011; The Daily Commercial Recorder | The Honorable Tom Daly, Mayor, City of Selma, 9375 Corporate Drive, Selma, TX 78154 | April 3, 2012 | 480046
Tarrant | City of Southlake (11-06-2709P) | November 10, 2011; November 17, 2011; The Fort Worth Star-Telegram | The Honorable John Terrell, Mayor, City of Southlake, 1400 Main Street, Suite 270, Southlake, TX 76092 | March 16, 2012 | 480612
Wichita | City of Wichita Falls (11-06-1179P) | November 29, 2011; December 6, 2011; The Times Record News | The Honorable Glenn Barham, Mayor, City of Wichita Falls, 1300 7th Street, Wichita Falls, TX 76301 | April 4, 2012 | 480662
Virginia:
Loudoun | Unincorporated areas of Loudoun County (11-03-0738P) | November 30, 2011; December 7, 2011; The Loudoun Times Mirror | The Honorable Scott K. York, Chairman, Loudoun County Board of Supervisors, 1 Harrison Street, Leesburg, VA 20175 | April 5, 2012 | 510090

(Catalog of Federal Domestic Assistance No. 97.022, “Flood Insurance.”)
Dated: February 15, 2012.
Sandra K. Knight,
Deputy Associate Administrator for Mitigation, Department of Homeland Security, Federal Emergency Management Agency.

[FR Doc. 2012-4955 Filed 2-29-12; 8:45 am]

BILLING CODE 9110-12-P